DEPARTMENT OF TRANSPORTATION

Federal Railroad Administration

[Docket Number FRA-2021-0030]

Petition for Waiver of Compliance

Under part 211 of title 49 Code of Federal Regulations (CFR), this document provides the public notice that on February 25, 2021, Iowa Interstate Railroad (IAIS) petitioned the Federal Railroad Administration (FRA) for a waiver of compliance from certain provisions of the Federal railroad safety regulations contained at 49 CFR part 230, Steam Locomotive Inspection and Maintenance Standards. FRA assigned the petition Docket Number FRA-2021-0030.

Specifically, IAIS requests relief for its steam locomotive IAIS 6988, from 49 CFR 230.17(a), One thousand four hundred seventy-two (1472) service day inspection, to extend the 1472 service day inspection (SDI) 106 calendar days from September 5, 2021, to December 20, 2021, if coronavirus disease 2019 (COVID-19) restrictions are reduced to permit servicing and operation. If COVID-19 restrictions are not lifted, and operation is limited or not permitted in 2021, IAIS requests an extension of the 1472 SDI until December 20, 2022, a total of 471 calendar days.

IAIS states that the COVID-19 public health emergency has caused IAIS to halt excursion service, which resulted in IAIS 6988 only accumulating one service day since its 2020 annual inspection. IAIS anticipates operating IAIS 6988 for about 40 service days in 2021. Further, IAIS states that during the extension period, all regularly scheduled maintenance and inspections required will be performed, and the IAIS 6988 will be stored indoors, serviceable, and drained.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by June 1, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-07653 Filed 4-13-21; 8:45 am]

BILLING CODE 4910-06-P